DEPARTMENT OF DEFENSE

Office of the Secretary

[Transmittal No. 22-24]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-24 with attached Policy Justification and Sensitivity of Technology.

Dated: May 9, 2024.
Aaron T. Siegel,
Alternate OSD Federal Register Liaison Officer, Department of Defense.

BILLING CODE 6001-FR-P

BILLING CODE 6001-FR-C

Transmittal No. 22-24

Notice of Proposed Issuance of Letter of Offer Pursuant to Section 36(b)(1) of the Arms Export Control Act, as amended

(i) Prospective Purchaser: Government of Nigeria

(ii) Total Estimated Value:

Major Defense Equipment * | $521 million
Other | $476 million
TOTAL | $997 million

Funding Source: National Funds

(iii) Description and Quantity or Quantities of Articles or Services under Consideration for Purchase:

Major Defense Equipment (MDE):

Twelve (12) AH-1Z Attack Helicopters

Twenty-eight (28) T-700 GE 401C Engines (24 installed, 4 spares)

Two thousand (2,000) Advanced Precision Kill Weapon System (APKWS) Guidance Sections

Non-MDE:

Also included is Night Vision Cueing Display (NVCD); commercial variant GPS with Standard Positioning Service (SPS); communication equipment; electronic warfare systems; AN/AVS-9 Aviator's Night Vision Imaging System; M197 20mm machine gun; Target Sight System (TSS); support equipment; spare engine containers; spare and repair parts; tools and test equipment; technical data and publications; personnel training and training equipment; Mission Planning system; U.S. Government and contractor engineering; technical, and logistics support services; U.S. Government and contractor assistance and oversight of facilities construction to include the provisioning of plans, drawings and specifications; $25M of case funds will be allocated for institutional and technical assistance to the Armed Forces of Nigeria (AFN) to continue Air Ground Integration (AGI) program, which includes developing targeting processes that are legally compliant with International Humanitarian Law and the Laws of Armed Conflict; and other related elements of logistics and program support.

(iv) Military Department: Navy (NI-P-SAO)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: April 14, 2022

*As defined in Section 47(6) of the Arms Export Control Act.

POLICY JUSTIFICATION

Nigeria—AH-1Z Attack Helicopter Related FMS Acquisitions

The Government of Nigeria has requested to buy twelve (12) AH-1Z Attack Helicopters; twenty-eight (28) T-700 GE 401C engines (24 installed, 4 spares); and two thousand (2,000) Advanced Precision Kill Weapon System (APKWS) guidance sections. Also included is Night Vision Cueing Display (NVCD); commercial variant GPS with Standard Positioning Service (SPS); communication equipment; electronic warfare systems; AN/AVS-9 Aviator's Night Vision Imaging System; M197 20mm machine gun; Target Sight System (TSS); support equipment; spare engine containers; spare and repair parts; tools and test equipment; technical data and publications; personnel training and training equipment; Mission Planning system; U.S. Government and contractor engineering; technical, and logistics support services; U.S. Government and contractor assistance and oversight of facilities construction to include the provisioning of plans, drawings and specifications; $25M of case funds will be allocated for institutional and technical assistance to the Armed Forces of Nigeria (AFN) to continue Air Ground Integration (AGI) program, which includes developing targeting processes that are legally compliant with International Humanitarian Law and the Laws of Armed Conflict; and other related elements of logistics and program support. The total estimated program cost is $997 million.

This proposed sale will support the foreign policy goals and national security objectives of the United States by improving the security of a strategic partner in Sub-Saharan Africa.

The proposed sale will better equip Nigeria to contribute to shared security objectives, promote regional stability and build interoperability with the U.S. and other Western partners. This sale will be a major contribution to U.S. and Nigerian security goals. Nigeria will have no difficulty absorbing the equipment and services into its armed forces.

The proposed sale of this equipment will not alter the basic military balance in the region.

The principal contractors will be Bell Helicopter, Textron, Fort Worth, TX; and General Electric Company, Lynn, MA. There are no known offset agreements in connection with this potential sale.

Implementation of this proposed sale will require multiple trips by U.S. Government and contractor representatives to participate in program and technical reviews plus training and maintenance support in country, on a temporary basis, for a period of five (5) years. It will also require approximately three (3) contractor support representatives to reside in country for a period of two (2) years to support this program.

There will be no adverse impact on U.S. defense readiness as a result of this proposed sale.

Transmittal No. 22-24

Notice of Proposed Issuance of Letter of Offer Pursuant to Section 36(b)(1) of the Arms Export Control Act

Annex

Item No. vii

(vii) Sensitivity of Technology:

1. The Z-model has an integrated avionics system (IAS) which includes two (2) mission computers and an automatic flight control system. Each crew station has two (2) 8x6- inch multifunction liquid crystal displays (LCD) and one (1) 4.2x4.2-inch dual function LCD display. The communications suite will have NON-COMSEC AR-1500 Ultra High Frequency Very High Frequency (UHF/VHF) radios with associated communications equipment. The navigation suite includes a commercial variant Standard Positioning System (SPS), a digital map system and a low-airspeed air data subsystem, which allows weapons delivery when hovering.

2. The crew is equipped with the Optimized Top Owl (OTO) helmet-mounted sight and display system. The OTO has a Day Display Module (DDM) and a Night Display Module (NDM). The AH-1Z has survivability equipment including the AN/AAR-47 Missile Warning and Laser Detection System, AN/ALE-47 Counter Measure Dispensing System (CMDS) and the AN/APR-39 Radar Warning Receiver (RWR) to cover countermeasure dispensers, radar warning, incoming/on-way missile warning and on fuselage laser-spot warning systems.

3. The highest level of classification of defense articles, components, and services included in this potential sale is SECRET.

4. If a technologically-advanced adversary were to obtain knowledge of the specific hardware and software elements, the information could be used to develop countermeasures that might reduce weapon system effectiveness or be used in the development of a system with similar or advanced capabilities.

5. A determination has been made that Nigeria can provide substantially the same degree of protection for the sensitive technology being released as the U.S. Government. This sale is necessary in furtherance of the U.S. foreign policy and national security objectives outlined in the Policy Justification.

6. All defense articles and services listed in this transmittal have been authorized for release and export to the Government of Nigeria.

[FR Doc. 2024-10605 Filed 5-15-24; 8:45 am]

BILLING CODE 6001-FR-P